DEPARTMENT OF TRANSPORTATION

Federal Railroad Administration

[Docket No. FRA-2000-7257, Notice No. 91]

Railroad Safety Advisory Committee; Notice of Meeting

AGENCY: Federal Railroad Administration (FRA), Department of Transportation (DOT).

ACTION: Notice of public meeting.

SUMMARY: FRA announces the sixty-second meeting of the Railroad Safety Advisory Committee (RSAC), a Federal Advisory Committee that develops, through a consensus process, recommendations for railroad safety regulations and other solutions to railroad safety issues.

DATES: The RSAC meeting is scheduled for Monday, June 27, 2022. The meeting will commence at 9:30 a.m. and will adjourn by 4:30 p.m. (all times Eastern Daylight Time). Requests to submit written materials to be reviewed during the meeting must be received by June 17, 2022. Requests for accommodations because of a disability must be received by June 17, 2022.

ADDRESSES: The RSAC meeting will be held at the National Association of Home Builders, located at 1201 15th Street NW, Washington, DC 20005. A final agenda will be posted on the RSAC internet website at https://rsac.fra.dot.gov/ at least one week in advance of the meeting. Please see the RSAC website for additional information on the committee at https://rsac.fra.dot.gov/.

FOR FURTHER INFORMATION CONTACT: Kenton Kilgore, RSAC Designated Federal Officer/RSAC Coordinator, FRA Office of Railroad Safety, (202) 493-6286 or kenton.kilgore@dot.gov. Any committee-related request should be sent to Mr. Kilgore.

SUPPLEMENTARY INFORMATION: Pursuant to Section 10(a)(2) of the Federal Advisory Committee Act (Pub. L. 92-463), FRA is giving notice of a meeting of the RSAC.

The RSAC is composed of 51 voting representatives from 26 member organizations, representing various rail industry perspectives. The diversity of the RSAC ensures the requisite range of views and expertise necessary to discharge its responsibilities.

Public Participation: The meeting is open to the public and attendance is on a first-come, first served basis, and is accessible to individuals with disabilities. DOT and FRA are committed to providing equal access to this meeting for all participants. If you need alternative formats or services because of a disability, please contact Mr. Kenton Kilgore as listed in the FOR FURTHER INFORMATION CONTACT section and submit your request by June 17. Any member of the public may submit a written statement to the committee at any time. If a member of the public wants the submit written materials to be reviewed by the committee during the meeting, it must be received by June 17.

Agenda Summary: The RSAC meeting topics will include updates on recent activity by RSAC Working Groups for Passenger Safety; and Track Standards. FRA intends to propose to the RSAC four new tasks, related to: (1) roadway worker protection; (2) confidential close call reporting; (3) railroad communications; and (4) practices to maximize alertness and reduce fatigue. The detailed agenda will be posted on the RSAC internet website at least one week in advance of the meeting.

Issued in Washington, DC.
Amitabha Bose,
Administrator.

[FR Doc. 2022-12520 Filed 6-9-22; 8:45 am]

BILLING CODE 4910-06-P